DEPARTMENT OF STATE

[Public Notice 10402]

Notice of Public Meeting

The Department of State will conduct an open meeting at 9:00 a.m. on Thursday, May 24, 2018, at the offices of ABS Consulting, 1525 Wilson Boulevard, Suite 625, Arlington, Virginia 22209. The primary purpose of the meeting is to prepare for the forty-second session of the International Maritime Organization's (IMO) Facilitation Committee to be held at the IMO Headquarters, United Kingdom, June 5-8, 2018.

The agenda items to be considered include:

—Decisions of other IMO bodies

—Consideration and adoption of proposed amendments to the Convention

—Review and update the Explanatory Manual to the FAL Convention

—Application of single-window concept

—Review and revision of the IMO Compendium on Facilitation and Electronic Business

—Developing guidance for authentication, integrity and confidentiality of content for the purpose of exchange via a maritime single window

—Update the guidelines for setting up a single window system in maritime transport

—Unsafe mixed migration by sea

—Consideration and analysis of reports and information on persons rescued at sea and stowaways

—Technical cooperation activities related to facilitation of maritime traffic

—Relations with other organizations

—Application of the Committee's procedures on organization and method of work

—Work program

—Election of Chair and Vice-Chair for 2019

—Any other business

Members of the public may attend this meeting up to the seating capacity of 30 for the room. Upon request to the meeting coordinator, members of the public may also participate via teleconference, up to the capacity of the teleconference phone line, which will handle 500 participants. To access the teleconference line, participants should call (202) 475-4000 and use Participant Code: 764 990 20#. To facilitate the building security process, and to request reasonable accommodation, those who plan to attend should contact the meeting coordinator, Mr. James Bull, by email at James.T.Bull@uscg.mil, by phone at (202) 372-1144, or in writing at 2703 Martin Luther King Jr. Ave. SE, Stop 7509, Washington, DC 20593-7509 not later than May 17, 2018, seven days prior to the meeting. Requests made after May 17, 2018, might not be able to be accommodated. The ABS Consulting office is accessible by taxi, public transportation, and privately owned conveyance.

Additional information regarding this and other IMO public meetings may be found at: https://www.dco.uscg.mil/IMO.

Joel C. Coito,
Coast Guard Liaison Officer, Office of Ocean and Polar Affairs, Department of State.

[FR Doc. 2018-08880 Filed 4-26-18; 8:45 am]

BILLING CODE 4710-09-P